DEPARTMENT OF STATE

22 CFR Part 22

[Public Notice 4984]

RIN 1400-AB94; 1400-AB95

Schedule of Fees for Consular Services, Department of State and Overseas Embassies and Consulates

AGENCY: State Department.

ACTION: Final rule.

SUMMARY: This rule adopts as final the Department of State's proposed rule to revise the Schedule of Fees for Consular Services (“Schedule of Fees” or “Schedule”), with four changes, one incorporating and finalizing an already effective additional exemption to the MRV fee and the others adding three new fees authorized by the Consolidated Appropriations Act, 2005 (Pub. L. 108-447). None of these changes are being made in response to public comments. Only one comment was received during the period for public comment, but the Department has decided that the comment does not warrant any changes in the proposed rule. The additional exemption being added to the Schedule simply incorporates and finalizes an exemption that has been in effect during the comment period on the revised Schedule as a result of an Interim Rule issued pursuant to a separate but related rulemaking. No comments on the additional exemption were received during the comment period for that rulemaking. The three new fees are being added because they were established by legislation enacted after the comment period for this rulemaking closed. The addition of these fees does not require public comment. The proposed rule, modified only to incorporate the new exemption and the new legislatively established fees, is therefore adopted as final.

EFFECTIVE DATE: This rule is effective March 8, 2005.

FOR FURTHER INFORMATION CONTACT: Phillip Min, Office of the Executive Director, Bureau of Consular Affairs, fax: 202-663-2499; e-mail: fees@state.gov.

SUPPLEMENTARY INFORMATION: The Department published a proposed rule in the Federal Register at 69 FR 42913-42919 on July 19, 2004 (Public Notice 4765, RIN 1400-AB94), proposing to amend sections of part 22 of Title 22 of the Code of Federal Regulations. Specifically, the rule proposed changes to the Schedule of Fees for Consular Services, including seven increases and two decreases. The Department's proposed rule solicited comments, and one general comment sent by e-mail was received. The comment, dated July 19, 2004, criticized all consular fees as still being too low.

After publication of the aforementioned proposed rule, the Department also published a separate but related interim rule in the Federal Register at 69 FR 53618-53619 on September 2, 2004 (Public Notice 4809, RIN 1400-AB95), amending the Schedule of Fees for Consular Services to include an exemption from the nonimmigrant visa application processing fee for family members traveling to the United States for the funeral or burial of a U.S. Government employee killed in the line of duty or to visit a U.S. Government employee critically injured in the line of duty. The amendment became effective upon publication on September 2, 2004. Interested parties were invited to submit written comments by September 24, 2004. No comments were received. The exemption added to the existing Schedule of Fees by the amendment is finalized and carried forward in the Schedule of Fees for Consular Services as published in this final rule.

As explained when the revised Schedule of Fees was published as a proposed rule, the majority of the Department of State's consular fees are established pursuant to the general user charges statute, 31 U.S.C. 9701, and/or 22 U.S.C. 4219, which, as implemented through Executive Order 10718 of June 27, 1957, authorizes the Secretary of State to establish fees to be charged for official services provided by embassies and consulates. Other fees are established pursuant to more specific statutory authorities, some of which provide for full or partial exemptions.

With the exception of nonimmigrant visa reciprocity fees, which are established based on the practices of other countries, and fees that are established at amounts specified by statute, all consular fees are established on a basis of cost recovery and in a manner consistent with general user charges principles, regardless of the specific statutory authority under which they are promulgated. The Department of State is required to review consular fees periodically to determine the appropriateness of each fee in light of applicable provisions of OMB Circular A-25, and it was as a result of such a review that the amendments to the Schedule of Fees were proposed. This review attempted to identify the fully allocated costs of consular services (direct and indirect).

In situations where services are provided often enough to develop a reliable estimate of the average time involved, a flat service fee was adopted. In other situations where services are provided infrequently, the consular hourly rate was made the basis of the fee. In either case, the fee is designed to recover some or all—but not more than—actual fully allocated costs the Department expects to incur over the period that the Schedule will be in effect. When the fee is set below costs, the remaining cost is either recovered through allocation to related services for which fees are charged, or will be covered through appropriations. (Detailed information concerning the methodology of the study is available from the Bureau of Consular Affairs.)

Based on this effort and subsequent analysis, the Department proposed adjustments to the Schedule of Fees, including the fee to search Department of State files to verify an applicant's U.S. citizenship (from $45 to $60); the Diversity Visa (DV) Lottery surcharge for a diversity immigrant visa application (from $100 to $375); the Affidavit of Support Review fee (from $65 to $70); the fee for determining returning resident status (from $360 to $400); the fee for a transportation letter issued to a Legal Permanent Resident Alien (LPRA) who needs a transportation letter to reenter the U.S. (from $300 to $165); the fee for waiver of the two-year return residency requirement (from $230 to $215); the fees for processing Letters Rogatory and Foreign Sovereign Immunities Act (FSIA) judicial assistance cases (from $650 to $735); and the fee for consular time (from $235 to $265).

In addition, the fee for loan processing was combined with the fee for assistance regarding the welfare and whereabouts of a U.S. citizen, including child custody inquiries. This is a purely technical change in the Schedule.

Significantly, Division B, Title IV (Diplomatic and Consular Programs appropriation) of the Consolidated Appropriations Act, 2005 (Public Law 108-447), authorized two new fees while section 426 of Division J, title IV (Visa Reform) of the same Act authorized a third. In each of these three cases, the amount of each fee was also specified. These three fees are incorporated in the Schedule as new items 8 (a passport surcharge of $12 to enhance the security of the passport document), 25 (a fraud prevention and detection fee of $500 for H-1B and L visa applicants), and 36 (an immigrant visa surcharge of $45 to enhance the security of the immigrant visa).

Analysis of Comments

As noted, the proposed rule (Public Notice 4765 at 69 FR 42913-42919) was published for comments on July 19, 2004. During the comment period, which closed August 18, 2004, the Department received only one comment, which criticized all consular fees as still being too low. The commenter said that the Department should increase all of the fees rather than provide below-cost services to non-U.S. citizens. In many cases, of course, the fees are in fact paid by U.S. citizens for services to U.S. citizens. Leaving that aside, in virtually all cases the fees result in full cost recovery either by (1) setting the fee for the specific service at full cost; (2) recovering the cost of a service through both the fee for the specific service and a fee for a related service (e.g., the passport fee recovers costs of certain overseas citizens services for which there is no specific, separate fee or for which the separate fee is set below cost); or (3) by shifting the cost of a service to other users, when specifically authorized by the statute. A few fees (such as the fee for a nonimmigrant visa application, the fee for refugee parole, the fee for documentary services, and the fee for scheduling depositions) are set below actual cost; in each of these cases, the Department has determined that it is in the public interest to recover the difference from U.S. Government appropriations so as not to make these particular services prohibitively expensive for the public, and/or because there is a public as well as private benefit from performance of the service.

Regulatory Findings

Administrative Procedure Act

On July 19, 2004, the Department published a proposed rule comprehensively amending its Schedule of Fees and providing a 30-day period for public comments (69 FR 42913-42919, Public Notice 4765, RIN 1400-AB94). Subsequently, it published an interim rule in the Federal Register (69 FR 53618-53619, Public Notice 4809, RIN 1400-AB95) that amended the existing Schedule of Fees effective immediately only to include as Item Number 22 (g) an exemption from the nonimmigrant visa application processing fee for family members traveling to the United States for the funeral or burial of a U.S. Government employee killed in the line of duty or to visit a U.S. Government critically injured in the line of duty. The change made by that interim rule, which became effective upon publication on September 2, 2004, is thus now part of the Schedule of Fees being comprehensively amended, and the exemption is carried forward and included as final in the Schedule of Fees for Consular Services, as published in this Final Rule.

The Consolidated Appropriations Act, 2005, signed into law by the President on December 8, 2004, authorized three new fees and specified the amount of each. These are included in the Schedule below in Items 8, 25, and 36. Item 8, a new $12 passport surcharge, applies to all applicants except those who are exempt from passport fees per item 4 of the Schedule. The surcharge is designed to recover the costs of consular services in support of enhanced border security that are in addition to those covered by the passport fees in effect on January 1, 2004. This fee is specifically authorized by Division B, Title IV (Diplomatic and Consular Programs appropriation). Item 25 is a fraud prevention and detection fee of $500. The fee has both a domestic and an overseas component. Abroad, the State Department, through its consuls, will collect the fee from a principal applicant for an “L” nonimmigrant visa who is covered under a blanket petition as provided for in section 214(c)(2) (A) of the Immigration and Nationality Act (INA). This fee is specifically authorized by subsections 214(c)(12)(B) and (C) of the INA as amended by section 426 of Division J, title IV (Visa Reform). Unlike the other two fees, it will take effect for nonimmigrant visa applications filed on or after ninety days from enactment of the Consolidated Appropriations Act—i.e., on or after March 8, 2005 (90 days from Dec. 8, 2004), in accordance with section 426(c). Item 36, a new $45 immigrant visa surcharge, applies to all applicants for immigrant visas, including Diversity Visas. The surcharge was added to recover costs of consular services in support of enhanced border security that are in addition to those covered by the immigrant visa fees in effect on January 1, 2004. This fee is specifically authorized by Division B, Title IV (Diplomatic and Consular Programs appropriation). Since these three new fees have been statutorily authorized and the amounts are statutorily established, the Department for good cause pursuant to 5 U.S.C. 553(b)(B) finds that public comment on the fees is unnecessary.

The final rule will be effective March 8, 2005, in accordance with 5 U.S.C. 553(d). All changes in the Department's existing fees will take effect at that time.

Regulatory Flexibility Act/Executive Order 13272: Small Business

The changes made by this regulation are hereby certified as not expected to have a significant economic impact on a substantial number of small entities under the criteria of the Regulatory Flexibility Act (5 U.S.C. 601-612) and section 3(b) of Executive Order 13272 (Proper Consideration of Small Entities in Agency Rulemaking).

Unfunded Mandates Reform Act of 1995

This rule will not result in the expenditure by State, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by 5 U.S.C. 804, for purposes of congressional review of agency rulemaking under the Small Business Regulatory Enforcement Act of 1996 (5 U.S.C. 801-808). This rule will not result in an annual effect on the economy of $100 million or more; a major increase in costs or prices; or significant adverse effects on competition, employment, investment, productivity, innovation, or on the ability of the United States-based companies to compete with foreign-based companies in domestic and export markets.

Executive Order 12866: Regulatory Review

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order. In addition, OMB has been provided with a copy of the proposed regulation.

Executive Order 12988: Civil Justice Reform

The Department has reviewed this regulation in light of sections 3(a) and 3(b)(2) of Executive Order No. 12988 to eliminate ambiguity, minimize litigation, establish clear legal standards, and reduce burden.

Executive Orders 12372 and 13132: Federalism

This regulation will not have substantial direct effects on the states, on the relationship between the national government and the states, or on the distribution of power and responsibilities among the various levels of government. Nor would the regulation have federalism implications warranting the application of Executive Orders 12372 and 13132.

Paperwork Reduction Act

This rule does not impose any new reporting or record-keeping requirements subject to the Paperwork Reduction Act, 44 U.S.C. Chapter 35.

List of Subjects in 22 CFR Part 22

Consular services, Fees, Schedule of fees for consular services, Passports and visas.

Accordingly, an amendment to part 22 is amended as follows:

PART 22—[AMENDED]

1. The authority citation for part 22 is revised to read as follows:

Authority: 8 U.S.C. 1153 note, 1351, 1351 note; 10 U.S.C. 2602(c); 22 U.S.C. 214, 2504(a), 4201, 4206, 4215, 4219; 31 U.S.C. 9701; Pub. L. 105-277, 112 Stat. 2681 et seq.; Pub. L. 108-447, 118 Stat. 2809 et seq.; E.O. 10718, 22 FR 4632, 3 CFR, 1954-1958 Comp., p. 382; E.O. 11295, 31 FR 10603, 3 CFR, 1966-1970 Comp., p. 570.

2. Section 22.1 is revised to read as follows:

§ 22.1 Schedule of fees.

The following table sets forth the U.S. Department of State's Schedule of Fees for Consular Services:

Schedule of Fees for Consular Services
Item No. | Fee
Passport and Citizenship Services
1. Passport Execution: Required for first-time applicants and others who must apply in person [01-Passport Execution] | $30.
2. Passport Application Services for:
(a) Applicants age 16 or over (including renewals) [02-Adult Passport] | 55.
(b) Applicants under age 16 [03-Minor Passport] | 40.
(c) Passport amendments (extension of validity, name change, etc.) [04-Amendment] | No fee.
3. Expedited service: Three-day processing and/or in-person service at a U.S. Passport Agency (not applicable abroad) [Expedited Service] | 60.
4. Exemptions: The following applicants are exempted from passport fees:
(a) Officers or employees of the United States and their immediate family members (22 U.S.C. 214) and Peace Corps Volunteers and Leaders (22 U.S.C. 2504(a)) proceeding abroad or returning to the United States in the discharge of their official duties [05-Passport Exempt] | No fee.
(b) U.S. citizen seamen who require a passport in connection with their duties aboard an American flag vessel (22 U.S.C. 214) [05-Passport Exempt] | No fee.
(c) Widows, children, parents, or siblings of deceased members of the Armed Forces proceeding abroad to visit the graves of such members (22 U.S.C. 214) [05-Passport Exempt] | No fee.
(d) Employees of the American National Red Cross proceeding abroad as members of the Armed Forces of the United States (10 U.S.C. 2603) [05-Passport Exempt] | No fee.
5. Travel Letter: Provided as an emergency accommodation to a U.S. citizen returning to the United States when the consular officer is unable to issue a passport book. (Consular time charges, item 75, may apply) [06-U.S.C. Travel Letter] | No fee.
6. File search and verification of U.S. citizenship: When applicant has not presented evidence of citizenship and previous records must be searched (except for an applicant abroad whose passport was stolen or lost abroad or when one of the exemptions is applicable) [07-PPT File Search] | 60.
7. Application for Report of Birth Abroad of a Citizen of the United States [08-Report Birth Abroad] | 65.
8. Passport security surcharge [09-Passport Surcharge] | 12.
Items nos. 9 through 10 vacant)
Overseas Citizens Services
Arrests, Welfare and Whereabouts, and Related Services
11. Arrest and prison visits | No fee.
12. Assistance regarding the welfare and whereabouts of a U.S. citizen, including child custody inquiries and processing of repatriation and emergency dietary assistance loans | No fee.
(Item no. 13 vacant)
Death and Estate Services
14. Assistance to next-of-kin:
(a) After the death of a U.S. citizen abroad (providing assistance in disposition of remains, making arrangements for shipping remains, issuing Consular Mortuary Certificate, and providing up to 20 original Consular Reports of Death) | No fee.
(b) Making arrangements for a deceased non-U.S. citizen family member (providing assistance in shipping or other disposition of remains of a non-U.S. citizen) [11-Non U.S.C. Death] | Consular Time (Item 75) Plus Expenses.
15. Issuance of Consular Mortuary Certificate on behalf of a non-U.S. citizen [12-Non-U.S.C. Mort Cert] | 60.
16. Acting as a provisional conservator of estates of U.S. citizens:
(a) Taking possession of personal effects; making an inventory under an official seal (unless significant time and/or expenses incurred) | No fee.
(b) Overseeing the appraisal, sale, and final disposition of the estate, including disbursing funds, forwarding securities, etc. (unless significant time and/or expenses incurred) | No fee.
(c) For services listed in 16 (a) or (b) when significant time and/or expenses are incurred [13-Estate Costs] | Consular Time (Item 75) and/or Expenses.
(Items nos. 17 through 20 vacant)
Nonimmigrant Visa Services
21. Nonimmigrant visa application and border crossing card processing fees (per person):
(a) Nonimmigrant visa [21-MRV Processing] | 100.
(b) Border crossing card—10 year (age 15 and over) [22-BCC 10 Year] | 100.
(c) Border crossing card—5 year (under age 15). For Mexican citizen, if parent or guardian has or is applying for a border crossing card [23-BCC 5 Year] | 13.
22. Exemptions from nonimmigrant visa application processing fee:
(a) Applicants for A, G, C-3, NATO and diplomatic visas as defined in 22 CFR 41.26 [24-MRV Exempt] | No fee.
(b) Applicants for J visas participating in official U.S. Government-sponsored educational and cultural exchanges [24-MRV Exempt] | No fee.
(c) Replacement machine-readable visa when the original visa was not properly affixed or needs to be reissued through no fault of the applicant [24-MRV Exempt] | No fee.
(d) Applicants exempted by international agreement as determined by the Department, including members and staff of an observer mission to United Nations Headquarters recognized by the UN General Assembly, and their immediate families [24-MRV Exempt] | No fee.
(e) Applicants traveling to provide charitable services as determined by the Department [24-MRV Exempt] | No fee.
(f) U.S. Government employees traveling on official business [24-MRV Exempt] | No fee.
(g) A parent, sibling, spouse, or child of a U.S. Government employee killed in the line of duty who is traveling to attend the employee's funeral and/or burial; or a parent, sibling, spouse, son, or daughter of a U.S. Government employee critically injured in the line of duty for visitation during emergency treatment and convalescence [24-MRV Exempt] | No fee.
23. Nonimmigrant visa issuance fee, including border-crossing cards [25-NIV Issuance Reciprocal] | Reciprocal.
24. Exemptions from nonimmigrant visa issuance fee:
(a) An official representative of a foreign government or an international or regional organization of which the U.S. is a member; members and staff of an observer mission to United Nations Headquarters recognized by the UN General Assembly; and applicants for diplomatic visas as defined under item 22(a); and their immediate families [26-NIV Issuance Exempt] | No fee.
(b) An applicant transiting to and from the United Nations Headquarters [26-NIV Issuance Exempt] | No fee.
(c) An applicant participating in a U.S. Government-sponsored program [26-NIV Issuance Exempt] | No fee.
(d) An applicant traveling to provide charitable services as determined by the Department [26-NIV Issuance Exempt] | No fee.
25. Fraud Prevention and Detection Fee for Visa applicant included in L blanket petition (principal applicant only) [27-NIV Adjudication, Blanket L] | 500.
(Items nos. 26 through 30 vacant)
Immigrant and Special Visa Services
31. Filing immigrant visa petition (collected for the Bureau of U.S. Citizenship and Immigration Services):
(a) Petition to classify status of alien relative for issuance of immigrant visa [81-USCIS I-130 Petition] | 185.
(b) Petition to classify orphan as an immediate relative [82-USCIS I-600 Petition] | 525.
32. Immigrant visa application processing fee (per person) [31-IV Application] | 335.
33. Diversity Visa Lottery surcharge for lottery participation (per person applying for an immigrant visa as a result of the lottery program) [32-DV Processing] | 375.
34. Affidavit of Support Review (only when AOS is reviewed domestically) | 70.
35. Special visa services:
(a) Determining Returning Resident Status [33-Returning Resident] | 400.
(b) Transportation letter for Legal Permanent Residents of U.S. [34-LPR Transportation Letter] | 165.
(c) Waiver of 2-year residency requirement [J Waiver] | 215.
(d) Waiver of immigrant visa ineligibility (collected for the Bureau of U.S. Citizenship and Immigration Services) [83-IV Waiver] | 250.
(e) Refugee or significant public benefit parole case processing [35-Refugee/Parole] | No fee.
(f) U.S. visa fingerprinting [36-Fingerprints] | 85.
36. Immigrant visa security surcharge [37-IV Surcharge] | 45.
(Items nos. 37 through 40 vacant)
Documentary Services
41. Providing notarial service:
(a) First service (seal) [41-Notarial] | 30.
(b) Each additional seal provided at the same time in connection with the same transaction [42-Additional Notarial] | 20.
42. Certification of a true copy or that no record of an official file can be located (by a post abroad):
(a) First copy [43-Certified Copy] | 30.
(b) Each additional copy provided at the same time [44-Additional Copy] | 20.
43. Provision of documents, certified copies of documents, and other certifications by the Department of State (domestic):
(a) Documents relating to births, marriages, and deaths of U.S. citizens abroad originally issued by a U.S. Embassy or Consulate | 30.
(b) Issuance of Replacement Report of Birth Abroad | 30.
(c) Certified copies of documents relating to births and deaths within the former Canal Zone of Panama from records maintained by the Canal Zone Government from 1904 to September 30, 1979 | 30.
(d) Certifying a copy of a document or extract from an official passport record | 30.
(e) Certifying that no record of an official file can be located [45-Brth/Mar/Death/No Record] | 30.
(f) Each additional copy provided at same time [46-Additional Cert] | 20.
44. Authentications (by posts abroad):
(a) Authenticating a foreign notary or other foreign official seal or signature | 30.
(b) Authenticating a U.S. Federal, State, or territorial seal | 30.
(c) Certifying to the official status of an officer of the United States Department of State or of a foreign diplomatic or consular officer accredited to or recognized by the United States Government | 30.
(d) Each authentication [47-Authentication] | 30.
45. Exemptions: Notarial, certification, and authentication fees or passport file search fees will not be charged when the service is performed:
(a) At the direct request of any Federal Government agency, any State or local government, the District of Columbia, or any of the territories or possessions of the United States (unless significant costs would be incurred) [48-Documents Exempt] | No fee.
(b) With respect to documents to be presented by claimants, beneficiaries, or their witnesses in connection with obtaining Federal, State, or municipal benefits [48-Documents Exempt] | No fee.
(c) For U.S. citizens outside the United States preparing ballots for any public election in the United States or any of its territories [48-Documents Exempt] | No fee.
(d) At the direct request of a foreign government or an international agency of which the United States is a member if the documents are for official noncommercial use [48-Documents Exempt] | No fee.
(e) At the direct request of a foreign government official when appropriate or as a reciprocal courtesy [48-Documents Exempt] | No fee.
(f) At the request of direct hire U.S. Government personnel, Peace Corps volunteers, or their dependents stationed or traveling officially in a foreign country [48-Documents Exempt] | No fee.
(g) With respect to documents whose production is ordered by a court of competent jurisdiction [48-Documents Exempt] | No fee.
(h) With respect to affidavits of support for immigrant visa applications [48-Documents Exempt] | No fee.
(i) With respect to endorsing U.S. Savings Bonds Certificates [48-Documents Exempt] | No fee.
(Items nos. 46 through 50 vacant)
Judicial Assistance Services
51. Processing letters rogatory and Foreign Sovereign Immunities Act (FSIA) judicial assistance cases, including providing seal and certificate for return of letters rogatory executed by foreign officials:
[51-Letters Rogatory] | 735.
[52-FSIA] | 735.
52. Taking depositions or executing commissions to take testimony:
(a) Scheduling/arranging appointments for depositions, including depositions by video teleconference (per daily appointment) [53-Arrange Depo] | 475.
(b) Attending or taking depositions, or executing commissions to take testimony (per hour or part thereof) [54-Depose/Hourly] | 265 Per Hour Plus Expenses.
(c) Swearing in witnesses for telephone depositions [55-Telephone Oath] | 265.
(d) Supervising telephone depositions (per hour or part thereof over the first hour) [56-Supervise Tel Depo] | 265 Per Hour Plus Expenses.
(e) Providing seal and certification of depositions [57-Deposition Cert] | 70.
53. Exemptions: Deposition or executing commissions to take testimony. Fees will not be charged when the service is performed:
(a) At the direct request of any Federal Government agency, any State or local government, the District of Columbia, or any of the territories or possessions of the United States (unless significant time required and/or expenses would be incurred). [58-Judicial Exempt] | No fee.
(b) Executing commissions to take testimony in connection with foreign documents for use in criminal cases when the commission is accompanied by an order of Federal court on behalf of an indigent party [59-Indigent Test] | No fee.
(Items nos. 54 through 60 vacant)
Services Relating to Vessels and Seamen
61. Shipping and Seaman's services: Including but not limited to, recording a bill of sale of a vessel purchased abroad, renewal of a marine radio license, and issuance of certificate of American ownership:
[61-Shipping Bill of Sale] | Consular Time (Item 75) Plus Expenses.
[62-Shipping Consular Radio LISC] | Time (Item 75) Plus Expenses.
[63-Shipping Cert AM Own] | Consular Time (Item 75) Plus Expenses.
[64-Shipping Misc] | Consular Time (Item 75) Plus Expenses.
(Items nos. 62 through 70 vacant)
Administrative Services
71. Non-emergency telephone calls [70-Toll Call Cost] [71-Toll Cost Surcharge] | Long Distance Charge Plus $10.
72. Setting up and maintaining a trust account: For one year or less to transfer funds to or for the benefit of a U.S. citizen in need in a foreign country [72-OCS Trust] | 30.
73. Transportation charges incurred in the performance of fee and no-fee services when appropriate and necessary [73-Transportation] | Expenses Incurred.
74. Return check processing fee [74-Return Check] | 25.
75. Consular time charges: As required by this schedule and for fee services performed away from the office or during after-duty hours (per hour or part thereof/per consular employee) [75-Consular Time] | 265.
76. Photocopies (per page) [76-Photocopy] | 1.
(Items nos. 77 through 80 vacant)

Dated: January 14, 2005.
Grant S. Green,
Under Secretary for Management, Department of State.

[FR Doc. 05-1930 Filed 2-1-05; 8:45 am]

BILLING CODE 4710-06-P